DEPARTMENT OF AGRICULTURE

Animal and Plant Health Inspection Service

[Docket No. 03-101-4]

Environmental Impact Statement; Petition for Deregulation of Genetically Engineered Glyphosate-Tolerant Creeping Bentgrass

AGENCY: Animal and Plant Health Inspection Service, USDA.

ACTION: Notice of public meetings and request for comments.

SUMMARY: We are advising the public that the Animal and Plant Health Inspection Service will be holding two public scoping forums to promote further public involvement in the development of an environmental impact statement as part of our consideration of a petition received from Monsanto Company and The Scotts Company for a determination of nonregulated status for a glyphosate-tolerant creeping bentgrass (Agrostis stolonifera). The information received in response to this notice, as well as the information received previously, will be considered during development of an environmental impact statement prepared in accordance with the National Environmental Policy Act.

DATES: We will consider written comments submitted at public scoping forums that will be held in Chevy Chase, MD on May 3, 2005, and in Corvallis, OR on May 18, 2005. Each public forum will be held from 4 p.m. to 8 p.m., local time. We will also consider written comments submitted by other means that we receive on or before June 1, 2005.

ADDRESSES: You may submit comments by any of the following methods:

• EDOCKET: Go to http://www.epa.gov/feddocket to submit or view public comments, access the index listing of the contents of the official public docket, and to access those documents in the public docket that are available electronically. Once you have entered EDOCKET, click on the “View Open APHIS Dockets” link to locate this document.

• Postal Mail/Commercial Delivery: Please send four copies of your comment (an original and three copies) to Docket No. 03-101-4, Regulatory Analysis and Development, PPD, APHIS, Station 3C71, 4700 River Road Unit 118, Riverdale, MD 20737-1238. Please state that your comment refers to Docket No. 03-101-4.

• In Person: Comment stations will be available at the public scoping forums. Specific instructions for submitting written comments will be provided at the commenting stations.

Meeting Locations: The public scoping forums will be held at the following locations:

• National 4-H Youth Conference Center, Exhibition Hall, 7100 Connecticut Avenue, Chevy Chase, MD. For directions or facilities information, call (301) 961-2801 or visit http://www.4hcenter.org.

• Oregon State University Conference Complex, CH2M Hill Alumni Center, Cascade Ballroom, 725 SW. 26th Street, Corvallis, OR. For directions or facilities information, call (541) 737-9300 or visit http://oregonstate.edu/conferences.

Reading Room: You may read any comments that we receive on this docket in our reading room. The reading room is located in room 1141 of the USDA South Building, 14th Street and Independence Avenue SW., Washington, DC. Normal reading room hours are 8 a.m. to 4:30 p.m., Monday through Friday, except holidays. To be sure someone is there to help you, please call (202) 690-2817 before coming.

Other Information: You may view APHIS documents published in the Federal Register and related information on the Internet at http://www.aphis.usda.gov/ppd/rad/webrepor.html.

FOR FURTHER INFORMATION CONTACT: Dr. Susan M. Koehler, BRS, APHIS, 4700 River Road Unit 147, Riverdale, MD 20737-1238; (301) 734-4886.

SUPPLEMENTARY INFORMATION:

Nature of Public Forums

As part of the scoping processes for the environmental impact statement (EIS), the Animal and Plant Health Inspection Service (APHIS) will hold two public forums, the first in the Washington, DC area and the second in Corvallis, OR (see ADDRESSES above). These informal forums are designed to engage interested individuals from the public and elicit comments related to the scope of the EIS. The format will consist of informational posters and comment stations. Attendees will be able to walk through the forum during the open hours and interact with other attendees and APHIS personnel. There is no set schedule for each poster station, so the public may come and go at any time during the forum period. The goals of these gatherings are to allow APHIS to better understand the public's interests or concerns with respect to any potential change in the regulatory status of glyphosate-tolerant creeping bentgrass and to give the public an additional opportunity to relate issues or information to APHIS that individuals believe should be included in the scope of the EIS.

Background

On April 14, 2003 APHIS received a petition (APHIS Petition No. 03-104-01p) from Monsanto Company (St. Louis, MO) and The Scotts Company (Gervais, OR) (Monsanto/Scotts), requesting deregulation of a creeping bentgrass (Agrostis stolonifera L., synonym A. palustris Huds.) that has been genetically engineered for tolerance to the herbicide glyphosate. The Monsanto/Scotts petition states that the subject creeping bentgrass, designated as event ASR368, should not be regulated by APHIS because it does not present a plant pest risk. (The petition is available on the Internet at http://www.aphis.usda.gov/brs/aphisdocs/03_10401p.pdf.)

In a notice published in the Federal Register on January 5, 2004 (69 FR 315-317, Docket No. 03-101-1), APHIS announced the receipt of the Monsanto/Scotts petition and solicited comments on whether the subject creeping bentgrass would present a plant pest risk. We solicited comments concerning our notice for 60 days, ending March 5, 2004.

On September 24, 2004, APHIS published in the Federal Register (69 FR 57257 57260, Docket No. 03-101-2) a notice advising the public of our decision to prepare an environmental impact statement (EIS) as part of our consideration of petition 03-104-01p. Our decision was based on several factors: (1) Data associated with the petition, (2) a report prepared by the Weed Science Society of America on the weed management implications associated with the potential deregulation and commercialization of glyphosate-tolerant and glufosinate-tolerant creeping bentgrass varieties (see http://www.wssa.net/society/bentgrass.pdf), (3) our preliminary risk assessment (see http://www.aphis.usda.gov/brs/aphisdocs/03_10401p_ra.pdf), and (4) public comments received in response to the January 5, 2004 Federal Register notice (see https://web01.aphis.usda.gov/Bentgrass.nsf).

Pursuant to the regulations of the Council on Environmental Quality in 40 CFR 1501.4(d), APHIS initiated the scoping process as mandated by the National Environmental Policy Act of 1969 (NEPA), as amended (42 U.S.C. 4321 et seq.), beginning with the January 5, 2004 Federal Register notice. The comment period for our September 24, 2004 notice of intent was scheduled to close on October 24, 2004. However, we extended that comment period until December 2, 2004 (Docket No. 03-101-3, 69 FR 67532-67533), to give interested parties additional time to respond. (You may view the comments received on our September 24, 2004 notice by going to http://www.aphis.usda.gov/ppd/rad/LPOC/index.html and locating the entry for Docket No. 03-101-2.)

With this notice, we are continuing the scoping process by inviting the public to attend public scoping forums. The purpose of these public scoping forums is to allow the public a venue to interact with APHIS representatives and to allow APHIS to solicit further information from the public on potential impacts of glyphosate tolerant creeping bentgrass on the human environment. We will accept written comments submitted at the public forums or via the other means described under ADDRESSES.

Comments that provide information relevant to the scope identified in the September 24, 2004 Federal Register notice or that identify other potentially significant environmental issues or alternatives that should be examined in the context of the EIS process would be especially helpful. All comments that we received in response to the January 5 and September 24, 2004 notices referenced above will also be included as part of this scoping process and need not be resubmitted. We will fully consider all these comments and the comments resulting from these public forums in developing a final scope of study and in preparing the draft EIS. When the draft EIS is completed, we will publish a notice in the Federal Register announcing its availability and inviting the public to comment on it. Following our consideration of the comments received, APHIS will prepare a final EIS; its availability will also be announced in the Federal Register along with a 30-day public comment period, after which the Record of Decision will be issued.

Done in Washington, DC, this 5th day of April 2005.
Elizabeth E. Gaston,
Acting Administrator, Animal and Plant Health Inspection Service.

[FR Doc. E5-1641 Filed 4-8-05; 8:45 am]

BILLING CODE 3410-34-P